DEPARTMENT OF COMMERCE

National Oceanic and Atmospheric Administration

[I.D. 090204E]

Endangered and Threatened Species: Notice of Public Hearings on Proposed Hatchery Listing Policy

AGENCY: National Marine Fisheries Service (NMFS), National Oceanic and Atmospheric Administration (NOAA), Commerce.

ACTION: Notice of public hearings.

SUMMARY: In June 2004, NMFS proposed a new policy for the consideration of hatchery salmon (chum, Oncorhynchus keta; coho, O. kisutch, sockeye, O. nerka; chinook, O. tshawytscha;) and O. mykiss (inclusive of anadromous steelhead and resident rainbow trout) in Endangered Species Act (ESA) listing determinations. NMFS recently extended the public comment period for this proposed new policy to October 20, 2004, and also announced a series of public hearings in the Pacific Northwest. In this notice, NMFS is announcing that public hearings will also be held at six locations in California from late September through mid-October to provide additional opportunities for the public and other interested parties to comment on the proposed policy.

DATES: Written comments must be received by October 20, 2004. See SUPPLEMENTARY INFORMATION for the specific public hearing dates.

ADDRESSES: You may submit comments on the proposed hatchery listing policy (69 FR 31354; June 3, 2004) by any of the following methods:

E-mail: The mailbox address for submitting e-mail comments on the hatchery listing policy is hatch.policy@noaa.gov. Please include in the subject line of the e-mail comment the document identifier “Hatchery Listing Policy.”

Mail: Submit written comments and information to Assistant Regional Administrator, NMFS, Protected Resources Division, 501 W. Ocean Blvd., Suite 4200, Long Beach, California, 90802-4213. Please identify the comment as regarding the “Hatchery Listing Policy.”

Fax: 562-980-4027. Please identify the fax comment as regarding the “Hatchery Listing Policy.”

Copies of the Federal Register notices cited herein and additional salmon-related materials are available on the Internet at http://www.nwr.noaa.gov.

See SUPPLEMENTARY INFORMATION for hearing locations.

FOR FURTHER INFORMATION CONTACT: Craig Wingert, NMFS, Southwest Region, (562) 980-4021.

SUPPLEMENTARY INFORMATION:

Background

On June 3, 2004, NMFS published a proposed policy addressing the role of hatchery produced Pacific salmon and O. mykiss in ESA listing determinations (69 FR 31354; “proposed hatchery listing policy”). The proposed hatchery listing policy would supersede NMFS' 1993 Interim Policy on salmonid artificial (hatchery) propagation (58 FR 17573; April 5, 1993), which requires revision following the 2001 U.S. District Court ruling in Alsea Valley Alliance v. Evans (161 F. Supp. 2d 1154, D. Oreg. 2001;appeal dismissed, 358 F.3d 1181 (9th Cir. 2004); Alsea ruling). The Alsea ruling held that NMFS had made an improper distinction under the ESA by not listing certain artificially propagated salmon populations determined to be part of the same ESU as listed natural populations. Under the proposed hatchery listing policy: hatchery fish with a level of genetic divergence relative to local natural populations that is no more than would be expected between closely related populations within the ESU would be included as part of the ESU; within-ESU hatchery fish would be considered in determining whether the ESU should be listed under the ESA; and within-ESU hatchery fish would be included in any listing of the ESU. NMFS applied this proposed policy in conducting its comprehensive review of ESA listing status for 26 previously listed ESUs, and one candidate ESU, of West Coast salmon and O. mykiss.

Extension of Public Comment Period

Several requests were received to extend the comment period for the proposed hatchery listing policy . The original comment period for the new policy was September 1, 2004, but has recently been extended to October 20, 2004 (69 FR 53039) to allow additional opportunity for public comment (see DATES and ADDRESSES).

Public Hearings

Joint Commerce-Interior ESA implementing regulations state that the Secretary shall promptly hold at least one public hearing if any person requests one within 45 days of publication of a proposed regulation to list a species or to designate critical habitat (see 50 CFR 424.16(c)(3)). In order to provide the public an opportunity to provide public comments on the new hatchery listing proposal, NMFS will be holding six public hearings in California at the specific dates and locations listed below:

(1) September 22, 2004; 6:30-9:30pm at the North Coast Inn, 4975 Valley West Blvd., Arcata, CA 95521

(2) September 23, 2004; 6:30-9:30pm at the DoubleTree Hotel Sonoma Wine Country, One DoubleTree Drive, Rohnert Park, CA 94928

(3) September 28, 2004; 6:30-9:30pm at the Best Western Hilltop Inn, 2300 Hilltop Drive, Redding, CA 96002

(4) September 28, 2004; 6:30-9:30pm at the Monterey Beach Resort, 2600 Sand Dunes Drive, Monterey, CA 93940

(5) October 12, 2004; 6:30-9:30pm at the Radisson Hotel Sacramento, 500 Leisure Lane, Sacramento, CA 95815

(6) October, 12, 2004; 6:30-9:30pm at the Fess Parker's DoubleTree Resort, 633 East Cabrillo Blvd., Santa Barbara, CA 93103

NMFS has scheduled these hearings to allow affected stakeholders and members of the public the opportunity to provide comments directly to agency staff during the comment period. However, these public meetings are not the only opportunity for the public to provide input on this proposal. The public and stakeholders are encouraged to continue to comment and provide input to NMFS on the proposals (via correspondence, e-mail, and the Internet; see ADDRESSES, above) up until the scheduled close of the comment period on October 20, 2004.

References

Copies of the Federal Register notices and related materials cited herein are available on the Internet at http://nwr.noaa.gov, or upon request (see ADDRESSES section above).

Authority: 16 U.S.C. 1531 et seq.

Dated: September 3, 2004.
Laurie K. Allen,
Acting Director, Office of Protected Resources, National Marine Fisheries Service.

[FR Doc. 04-20424 Filed 9-3-04; 2:55 pm]

BILLING CODE 3510-22-S